DEPARTMENT OF THE INTERIOR

Fish and Wildlife Service

Availability of Draft Comprehensive Conservation Plan and Environmental Assessment for Shiawassee National Wildlife Refuge, Saginaw, MI and Michigan Wetland Management District, East Lansing, MI

AGENCY: Fish and Wildlife Service, Interior.

ACTION: Notice of availability.

SUMMARY: Pursuant to the Refuge Improvement Act of 1997, the U.S. Fish and Wildlife Service has published the Shiawassee National Wildlife Refuge Draft Comprehensive Conservation Plan and Environmental Assessment. The Plan describes how the Service intends to manage the Refuge for the next 15 years. The document includes the Michigan Wetland Management District (WMD).

DATES: Submit written comments by April 11, 2001. All comments should be addressed to Doug Spencer, Shiawassee National Wildlife Refuge, 6975 Mower Road, Saginaw, MI 48601. Comments may also be submitted through the Service's regional website at: http://www.fws.gov/r3pao/planning/shiawasstop.htm

ADDRESSES: A copy of the Plan or a summary may be obtained by writing to Doug Spencer at the address above or by placing a request through the website.

FOR FURTHER INFORMATION CONTACT: For additional information contact Doug Spencer, Shiawassee National Wildlife Refuge, 6975 Mower Road, Saginaw, MI 48601. Phone (517) 777-5930 or E-mail doug_spencer@fws.gov.

SUPPLEMENTARY INFORMATION: Shiawassee National Wildlife Refuge includes a large area of wetlands and forests within the agricultural and urban landscape of Michigan's Saginaw County. Established in 1953, the Refuge now includes 9,226 acres and is recognized as globally significant to migratory waterfowl. It was authorized to be a sanctuary for migratory birds, fish and wildlife-oriented recreation, protection of natural resources, and the conservation of endangered and threatened species. The Michigan WMD consists of two waterfowl production areas, which are cooperatively managed with the Michigan Department of Natural Resources.

The Draft Comprehensive Conservation Plan emphasizes the habitat needs of fish and wildlife and expanded opportunities for wildlife-dependent recreation.

Dated: February 8, 2001.
William F. Hartwig,

[FR Doc. 01-3988 Filed 2-15-01; 8:45 am]

BILLING CODE 4310-55-M